DEPARTMENT OF COMMERCE

International Trade Administration

A-533-810

Stainless Steel Bar from India: Final Results of New Shipper Antidumping Duty Administrative Review

AGENCY: Import Administration, International Trade Administration, Department of Commerce.

ACTION: Notice of Final Results of New Shipper Antidumping Duty Administrative Review.

SUMMARY: On August 19, 2002, the Department of Commerce published the preliminary results of the new shipper administrative review of the antidumping duty order on stainless steel bar from India. We gave interested parties an opportunity to comment on the preliminary results. Based on an examination of our calculations, we have made a change for the final results. We find that the reviewed company made sales of stainless steel bar from India in the United States below normal value during the period of review, February 1 through July 31, 2001.

DATES: Effective Date: November 19, 2002.

FOR FURTHER INFORMATION CONTACT: Cole Kyle, Office 1, AD/CVD Enforcement, Import Administration, International Trade Administration, U.S. Department of Commerce, 14th Street and Constitution Avenue, N.W., Washington D.C. 20230; telephone (202) 482-1503.

SUPPLEMENTARY INFORMATION:

Applicable Statute

Unless otherwise indicated, all citations to the statute are references to the provisions of the Tariff Act of 1930, as amended effective January 1, 1995, (“the Act”) by the Uruguay Round Agreements Act (“URAA”). In addition, unless otherwise indicated, all citations to the Department of Commerce's (“the Department”) regulations are to 19 CFR Part 351 (April 2001).

Background

The manufacturer/exporter that requested this new shipper antidumping duty administrative review is Uday Engineering Works (“Uday”). The period of review (“POR”) is February 1 through July 31, 2001. Since the publication of the preliminary results of this review (see Stainless Steel Bar from India: Preliminary Results of New Shipper Antidumping Duty Administrative Review, 67 FR 53775 (August 19, 2002)), the following events have occurred:

On September 10, 2002, we issued a supplemental questionnaire to Uday. Uday filed its response on September 23, 2002. Uday filed a case brief on October 2, 2002. Carpenter Technology Corp., Crucible Specialty Metals Division of Crucible Materials Corp., Electralloy Corp., Slater Steel Corp., Empire Specialty Steel, and the United Steelworkers of America (collectively, “the petitioners”) filed a rebuttal brief on October 16, 2002. On October 28, 2002, Uday submitted additional written argument. As this submission did not meet the definition of case or rebuttal briefs outlined in the Department's regulations, the Department did not consider this submission in making its decision (see 19 CFR 351.309).

Scope of Review

Imports covered by this review are shipments of stainless steel bar (“SSB”). SSB means articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. SSB includes cold-finished SSBs that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which, if less than 4.75 mm in thickness, have a width measuring at least 10 times the thickness, or, if 4.75 mm or more in thickness, have a width which exceeds 150 mm and measures at least twice the thickness), wire (i.e., cold-formed products in coils, of any uniform solid cross section along their whole length, which do not conform to the definition of flat-rolled products), and angles, shapes and sections.

The SSB subject to these reviews is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, our written description of the scope of this review is dispositive.

Analysis of Comments Received

All issues raised in the case and rebuttal briefs by parties to this new shipper administrative review are addressed in the “Issues and Decision Memorandum” from Susan Kuhbach, Acting Deputy Assistant Secretary, Import Administration, to Richard Moreland, Acting Assistant Secretary for Import Administration, dated November 12, 2002, (“Decision Memorandum”), which is hereby adopted by this notice. A list of the issues which parties raised and to which we responded, all of which are in the Decision Memorandum, is attached to this notice as an Appendix. Parties can find a complete discussion of all issues raised in this review and the corresponding recommendations in this public memorandum which is on file in Import Administration's Central Records Unit, Room B-099 of the main Department building. In addition, a complete version of the Decision Memorandum can be accessed directly on the Web at http://ia.ita.doc.gov/frn/index.html. The paper copy and electronic version of the Decision Memorandum are identical in content.

Normal Value Comparisons

To determine whether sales of stainless steel bar from India to the United States were made at less than normal value, we compared export price to normal value. Our calculations followed the methodologies described in the preliminary results, except that we corrected a clerical error in the recalculation of Uday's imputed credit expense reported on its U.S. sale (see Uday Engineering Works Final Results Calculation Memorandum dated November 12, 2002.

Final Results of Review

We determine that the following percentage margin exists for the period February 1 through July 31, 2001:

Producer/Manufacturer/Exporter | Weighted-Average Margin
Uday Engineering Works | 19.80%

Assessment Rates

In accordance with 19 CFR 351.212(b)(1), we have calculated importer (or customer)-specific assessment rates for the merchandise subject to this review. To determine whether the duty assessment rates were de minimis, in accordance with the requirement set forth in 19 CFR 351.106(c)(2), we calculated importer (or customer)-specific ad valorem rates by aggregating the dumping margins calculated for all U.S. sales to that importer (or customer) and dividing this amount by the total value of the sales to that importer (or customer). Where an importer (or customer)-specific ad valorem rate was greater than de minimis, we calculated a per unit assessment rate by aggregating the dumping margins calculated for all U.S. sales to that importer (or customer) and dividing this amount by the total quantity sold to that importer (or customer).

Pursuant to its published announcement, the Department will issue appropriate assessment instructions directly to the Customs Service within 15 days of publication of these final results of review (see “Announcement Concerning Issuance of Liquidation Instructions Reflecting Results of Administrative Reviews” (August 9, 2002) (http://ia.ita.doc.gov/download/liquidation-announcement.html).

Cash Deposit Rates

The following antidumping duty deposits will be required on all shipments of stainless steel bar from India entered, or withdrawn from warehouse, for consumption, effective on or after the publication date of the final results of this new shipper antidumping duty administrative review, as provided by section 751(a)(1) of the Act: (1) the cash deposit rate for the reviewed company will be the rate indicated above; (2) for merchandise exported by manufacturers or exporters not covered in this review but covered in the original less-than-fair-value investigation or a previous review, the cash deposit will continue to be the most recent rate published in the final determination or final results for which the manufacturer or exporter received an individual rate; (3) if the exporter is not a firm covered in this review, the previous review, or the original investigation, but the manufacturer is, the cash deposit rate will be the rate established for the most recent period for the manufacturer of the merchandise; and (4) if neither the exporter nor the manufacturer is a firm covered in this or any previous reviews, the cash deposit rate will be 12.45 percent, the “all others” rate established in the less-than-fair-value investigation (see Stainless Steel Bar from India; Final Determination of Sales at Less Than Fair Value, 59 FR 66915 (December 28, 1994)).

These cash deposit requirements, when imposed, shall remain in effect until publication of the final results of the next administrative review.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

We are issuing and publishing this determination and notice in accordance with sections section 751(a)(1) and 777(i)(1) of the Act.

Dated: November 12, 2002.
Richard W. Moreland,
Acting Assistant Secretary for Import Administration.

Appendix 1

Issues in Decision Memorandum

Comment 1. Calculation of U.S. Imputed Credit Expenses

Comment 2. Variable Cost of Manufacturing

Comment 3. Duty Drawback

[FR Doc. 02-29347 Filed 11-18-02; 8:45 am]

BILLING CODE 3510-DS-S